CIVIL RIGHTS COMMISSION

Sunshine Act Meeting Notice

AGENCY: United States Commission on Civil Rights.

ACTION: Notice of Commission public business meeting.

DATES: Friday, February 26, 2021, 3:30 p.m. EST.

FOR FURTHER INFORMATION CONTACT: Angelia Rorison: 202-376-7700; publicaffairs@usccr.gov.

ADDRESSES: Meeting to take place by telephone and is open to the public by telephone: 1-800 218-2154, Conference ID 331-7214. Computer assisted real-time transcription (CART) will be provided. The web link to access CART (in English) on Friday, February 26, 2021, is https://www.streamtext.net/player?event=USCCR. Please note that CART is text-only translation that occurs in real time during the meeting and is not an exact transcript.

Meeting Agenda

I. Approval of Agenda

II. Business Meeting

A. Vote on Commissioner Norma Cantu to serve as USCCR Commission Chair

B. Vote on FEMA Discovery Plan

C. Vote on Commission Statement on Walter E. Williams

III. Adjourn Meeting

Dated: February 23, 2021.
Angelia Rorison,
Director of Media and Communications, U.S. Commission on Civil Rights.

[FR Doc. 2021-04042 Filed 2-23-21; 4:15 pm]

BILLING CODE 6335-01-P